DEPARTMENT OF THE INTERIOR

National Park Service

[NPS-WASO-NRSS-11168; 2609-0003-NDY]

Privacy Act of 1974; as Amended; Notice of a New System of Records

AGENCY: National Park Service, Interior.

ACTION: Notice of creation of a new system of records.

SUMMARY: Pursuant to the provisions of the Privacy Act of 1974, as amended, the Department of the Interior is issuing a public notice of its intent to create the National Park Service “Planning, Environment and Public Comment (PEPC) System—NPS-23” system of records. The system is an online collaborative tool designed to facilitate the project management process in conservation planning and environmental impact analysis. The system assists the National Park Service in making informed decisions with regard to a number of compliance issues throughout the planning, design, and construction process.

DATES: Comments must be received by July 7, 2014.

ADDRESSES: Any person interested in commenting on this notice may do so by: Submitting comments in writing to Felix Uribe, National Park Service Privacy Act Officer, 1201 Eye Street NW., 8th Floor, Washington, DC 20005; hand-delivering comments to Felix Uribe, National Park Service Privacy Act Officer, 1201 Eye Street NW., 8th Floor, Washington, DC 20005; or emailing comments to NPS_Privacy@nps.gov.

FOR FURTHER INFORMATION CONTACT: Project Manager, Office of Natural Resource Information Systems, Natural Resource Stewardship and Science, National Park Service, 1201 Oakridge Dr., Fort Collins, CO 80525; Telephone (970) 267-2132.

SUPPLEMENTARY INFORMATION:

I. Background

The Department of the Interior (DOI), National Park Service (NPS) maintains the “Planning, Environment and Public Comment (PEPC) System—NPS-23” system of records. The PEPC System is an online collaborative tool designed to facilitate the project management process in conservation planning and environmental impact analysis. The system assists NPS interdisciplinary team members in making informed decisions with regard to a number of compliance issues throughout the planning, design, and construction process; improving the overall tracking and management of projects; promoting collaboration and tracking key milestones on projects; facilitating communication between project participants, both inside and outside the NPS; increasing the efficiency of the compliance process by helping NPS employees prepare environmental screening and assessment of effect forms, as well as scheduling site visits, tracking tasks, mitigations, and environmental consultations; providing a unified portal for public consultation which makes information available to the public in a single, easily-accessible location; and facilitating analysis for web submission of public comments.

The system will be effective as proposed at the end of the comment period (the comment period will end 40 days after the publication of this notice in the Federal Register), unless comments are received which would require a contrary determination. The DOI will publish a revised notice if changes are made based upon a review of the comments received.

II. Privacy Act

The Privacy Act of 1974, as amended (5 U.S.C. 552a), embodies fair information practice principles in a statutory framework governing the means by which Federal Agencies collect, maintain, use, and disseminate individuals' personal information. The Privacy Act applies to records about individuals that are maintained in a “system of records.” A “system of records” is a group of any records under the control of an agency from which information is retrieved by the name of an individual or by some identifying number, symbol, or other identifying particular assigned to the individual. The Privacy Act defines an individual as a United States citizen or lawful permanent resident. As a matter of policy, DOI extends administrative Privacy Act protections to all individuals. Individuals may request access to their own records that are maintained in a system of records in the possession or under the control of DOI by complying with DOI Privacy Act regulations, 43 CFR Part 2.

The Privacy Act requires each agency to publish in the Federal Register a description denoting the type and character of each system of records that the agency maintains, the routine uses that are contained in each system in order to make agency record keeping practices transparent, to notify individuals regarding the uses of their records, and to assist individuals to more easily find such records within the agency. Below is the description of the NPS “Planning, Environment and Public Comment (PEPC) System—NPS-23” system of records.

In accordance with 5 U.S.C. 552a(r), DOI has provided a report of this system of records to the Office of Management and Budget and to Congress.

III. Public Disclosure

Before including your address, phone number, email address, or other personal identifying information in your comment, you should be aware that your entire comment, including your personal identifying information, may be made publicly available at any time. While you can ask us in your comment to withhold your personal identifying information from public review, we cannot guarantee that we will be able to do so.

Dated: May 20, 2014.
Felix Uribe,
Privacy Act Officer, National Park Service.

SYSTEM NAME:

Planning, Environment and Public Comment (PEPC) System—NPS-23

SYSTEM LOCATION:

This system is located at the Office of Natural Resource Information Systems, Natural Resource Stewardship and Science, National Park Service, 1201 Oakridge Dr., Fort Collins, CO 80525. Records may also be located at NPS regional and field offices responsible for projects related to conservation planning and environmental impact analysis.

CATEGORIES OF INDIVIDUALS COVERED BY THE SYSTEM:

Individuals covered by the system include DOI employees, contractors and volunteers, other Federal, state or local government agency employees, contractors and volunteers, partners of NPS that are involved in the projects, members of the public providing and seeking comments on the projects, and other individuals involved with projects related to conservation planning and environmental impact analysis.

CATEGORIES OF RECORDS IN THE SYSTEM:

The system contains documents necessary to track compliance, milestones, and status of projects related to conservation planning and environmental impact analysis, and may include name, home or business address, telephone number, email address, correspondent identification number, project number, and unique correspondence identification number for each correspondence record received. The correspondent's identification number is a unique number in the database that can be used to query the correspondent's information.

AUTHORITY FOR MAINTENANCE OF THE SYSTEM:

42 U.S.C. 4321, The National Environmental Policy Act of 1969, as amended; and 43 CFR Part 46, Implementation of the National Environmental Policy Act of 1969.

ROUTINE USES OF RECORDS MAINTAINED IN THE SYSTEM, INCLUDING CATEGORIES OF USERS AND THE PURPOSES OF SUCH USES:

The purposes of the system are (1) to track progress and milestones of park projects, including the legal compliance process outlined in the National Environmental Policy Act; (2) to allow park staff to collaborate with team members on a project, post plans and related documents for public review; (3) to provide public comment opportunity; and (4) to provide the NPS with a tool for comment analysis and response, which includes demographic information to better make informed decisions and serve the public.

In addition to those disclosures generally permitted under 5 U.S.C. 552a(b) of the Privacy Act, records or information contained in this system may be disclosed outside DOI as a routine use pursuant to 5 U.S.C. 552a(b)(3) as follows:

(1) (a) To any of the following entities or individuals, when the circumstances set forth in paragraph (b) are met:

(i) The U.S. Department of Justice (DOJ);

(ii) A court or an adjudicative or other administrative body;

(iii) A party in litigation before a court or an adjudicative or other administrative body; or

(iv) Any DOI employee acting in his or her individual capacity if DOI or DOJ has agreed to represent that employee or pay for private representation of the employee;

(b) When:

(i) One of the following is a party to the proceeding or has an interest in the proceeding:

(A) DOI or any component of DOI;

(B) Any other Federal agency appearing before the Office of Hearings and Appeals;

(C) Any DOI employee acting in his or her official capacity;

(D) Any DOI employee acting in his or her individual capacity if DOI or DOJ has agreed to represent that employee or pay for private representation of the employee;

(E) The United States, when DOJ determines that DOI is likely to be affected by the proceeding; and

(ii) DOI deems the disclosure to be:

(A) Relevant and necessary to the proceeding; and

(B) Compatible with the purpose for which the records were compiled.

(2) To a congressional office in response to a written inquiry that an individual covered by the system, or the heir of such individual if the covered individual is deceased, has made to the office.

(3) To any criminal, civil, or regulatory law enforcement authority (whether Federal, state, territorial, local, tribal or foreign) when a record, either alone or in conjunction with other information, indicates a violation or potential violation of law, criminal, civil, or regulatory in nature, and the disclosure is compatible with the purpose for which the records were compiled.

(4) To an official of another Federal agency to provide information needed in the performance of official duties related to reconciling or reconstructing data files or to enable that agency to respond to an inquiry by the individual to whom the record pertains.

(5) To Federal, state, territorial, local, tribal, or foreign agencies that have requested information relevant or necessary to the hiring, firing or retention of an employee or contractor, or the issuance of a security clearance, license, contract, grant or other benefit, when the disclosure is compatible with the purpose for which the records were compiled.

(6) To representatives of the National Archives and Records Administration to conduct records management inspections under the authority of 44 U.S.C. 2904 and 2906.

(7) To state and local governments and tribal organizations to provide information needed in response to court order and/or discovery purposes related to litigation, when the disclosure is compatible with the purpose for which the records were compiled.

(8) To an expert, consultant, or contractor (including employees of the contractor) of DOI that performs services requiring access to these records on DOI's behalf to carry out the purposes of the system. (9) To appropriate agencies, entities, and persons when:

(a) It is suspected or confirmed that the security or confidentiality of information in the system of records has been compromised; and

(b) DOI has determined that as a result of the suspected or confirmed compromise there is a risk of harm to economic or property interest, identity theft or fraud, or harm to the security or integrity of this system or other systems or programs (whether maintained by the DOI or another agency or entity) that rely upon the compromised information; and

(c) The disclosure is made to such agencies, entities and persons who are reasonably necessary to assist in connection with the DOI's efforts to respond to the suspected or confirmed compromise and prevent, minimize, or remedy such harm.

(10) To the Office of Management and Budget (OMB) during the coordination and clearance process in connection with legislative affairs as mandated by OMB Circular A-19.

(11) To the Department of the Treasury to recover debts owed to the United States.

(12) To the news media when the disclosure is compatible with the purpose for which the records were compiled.

(13) To officials of another Federal, state, local, or tribal agency to retrieve, review or analyze public comments for projects under their authority, which were received via the PEPC System.

DISCLOSURE TO CONSUMER REPORTING AGENCIES:

Pursuant to 5 U.S.C. 552a(b)(12), disclosures may be made to a consumer reporting agency as defined in the Fair Credit Reporting Act (15 U.S.C. 1681a(f)) or the Federal Claims Collection Act of 1996 (31 U.S.C. 3701(a)(3)).

POLICIES AND PRACTICES FOR STORING, RETRIEVING, ACCESSING, RETAINING AND DISPOSING OF RECORDS IN THE SYSTEM:

STORAGE:

Paper records are contained in file folders stored within filing cabinets. Electronic records are contained in computers, magnetic disks, computer tapes, removable drives, email and electronic databases.

RETRIEVABILITY:

Records in this system are retrieved by various fields including the name of correspondent, project number, correspondence identification number or correspondent's identification number.

SAFEGUARDS:

Access to records in the PEPC System is limited to authorized personnel whose official duties require such access. Paper records are secured in file cabinets in areas which are locked during non-duty hours. Electronic records conform to OMB and Departmental guidelines reflecting the implementation of the E-Government Act of 2002, National Institute of Standards and Technology Special Publication standards for Computer Security and the DOI regulations on safeguarding of Privacy Act information (43 CFR 2.226). A Privacy Impact Assessment was developed for the PEPC System to ensure that Privacy Act requirements and safeguards are met. Database tables are kept on separate file servers away from general file storage and other local area network usage. The data itself is stored in a password-protected, client-server database. Electronic transmissions of records are encrypted and password-protected. Security measures establish access levels for different types of users. Personnel authorized to access the system must complete all Security, Privacy, and Records management training and sign the Rules of Behavior.

RETENTION AND DISPOSAL:

Records in this system are retained in accordance with the National Park Service Records Schedule for Resource Management and Lands, which has been approved by National Archives and Records Administration (Job No. N1-79-08-1), and includes both permanent and temporary records. Records retention and disposition vary dependent on the type of record maintained within the system.

Paper records are disposed of by shredding or pulping, and records contained on electronic media are degaussed or erased in accordance with 384 Departmental Manual 1.

SYSTEM MANAGER AND ADDRESS:

Project Manager, Office of Natural Resource Information Systems, Natural Resource Stewardship and Science, National Park Service, 1201 Oakridge Dr., Fort Collins, CO 80525.

NOTIFICATION PROCEDURES:

An individual requesting notification of the existence of records on himself or herself should send a signed, written inquiry to the System Manager identified above. The request envelope and letter should both be clearly marked “PRIVACY ACT INQUIRY.” A request for notification must meet the requirements of 43 CFR 2.235.

RECORDS ACCESS PROCEDURES:

An individual requesting records on himself or herself should send a signed, written inquiry to the System Manager identified above. The request should describe the records sought as specifically as possible. The request envelope and letter should both be clearly marked “PRIVACY ACT REQUEST FOR ACCESS.” A request for access must meet the requirements of 43 CFR 2.238.

CONTESTING RECORDS PROCEDURES:

An individual requesting corrections or the removal of material from his or her records should send a signed, written request to the System Manager identified above. A request for corrections or removal must meet the requirements of 43 CFR 2.246.

RECORD SOURCE CATEGORIES:

Records in the PEPC System are obtained from DOI employees, contractors and volunteers, other Federal, state or local government agency employees, contractors and volunteers, partners of NPS that are involved in projects, members of the public providing and seeking comments on projects, and other individuals involved with projects related to conservation planning and environmental impact analysis.

EXEMPTIONS CLAIMED FOR THE SYSTEM:

None.

[FR Doc. 2014-12298 Filed 5-27-14; 8:45 am]

BILLING CODE 4310-EJ-P